DEPARTMENT OF ENERGY

Federal Energy Regulatory Commission

[Docket No. RP02-13-007]

Portland Natural Gas Transmission System; Notice of Compliance Filing

March 26, 2003.

Take notice that on March 21, 2003, Portland Natural Gas Transmission System (PNGTS) tendered for filing as part of its FERC Gas Tariff, Original Volume No. 1, Alternate Fourth Revised Sheet No. 100; and Alternate Second Revised Sheet No. 504, to become effective on March 1, 2003.

PNGTS states that the purpose of this filing is solely to correct the pagination on the referenced tariff sheets, in compliance with the Commission's March 13, 2003 Order in the above-captioned docket.

PNGTS states that copies of this filing are being served on all jurisdictional customers, applicable state commissions, and participants in Docket No. RP02-13-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 2, 2003.

Magalie R. Salas,
Secretary.

[FR Doc. 03-7871 Filed 4-1-03; 8:45 am]

BILLING CODE 6717-01-P